PEACE CORPS

22 CFR Part 304

RIN 0420-AA23

Claims Against the Government Under the Federal Tort Claims Act

AGENCY: Peace Corps.

ACTION: Direct final rule.

SUMMARY: The Peace Corps is revising its regulations concerning claims filed under the Federal Tort Claims Act. This change clarifies the Chief Financial Officer's authority to approve claims for amounts under $5,000.

DATES: This direct final rule is effective on June 19, 2008, without further action, unless adverse comment is received by Peace Corps by June 5, 2008. If adverse comment is received, Peace Corps will publish a timely withdrawal of the rule in the Federal Register.

ADDRESSES: You may submit comments by e-mail to sglasow@peacecorps.gov. Include RIN 0420-AA23 in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: The Chief Financial Officer will be the final deciding authority for claims worth less than $5,000.

Section-by-Section Analysis

Section 304.10

Subpart (b) is amended to reflect the fact that the Chief Financial Officer will make final determinations for claims worth less than $5,000.

Executive Order 12866

This regulation has been determined to be non-significant within the meaning of Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by state, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects

Claims.

Accordingly, under the authority of 22 U.S.C. 2503(b) and 28 U.S.C. 2672, Peace Corps amends the Code of Federal Regulations, Title 22, Chapter III, as follows:

PART 304—CLAIMS AGAINST THE GOVERNMENT UNDER THE FEDERAL TORT CLAIMS ACT

1. The authority citation for part 304 continues to read as follows:

Authority: 28 U.S.C. 2672; 22 U.S.C. 2503(b); E.O. 12137, as amended.

2. In § 304.10, paragraph (b) is revised to read as follows:

§ 304.10 Review of claim.

* * * * *

(b) After legal review and recommendation by the General Counsel, the Director of the Peace Corps will make a written determination on the claim, unless the claim is worth less than $5,000, in which case the Chief Financial Officer will make the written determination.

Dated: April 16, 2008.
Carl R. Sosebee,
Acting General Counsel.

[FR Doc. E8-8658 Filed 4-21-08; 8:45 am]

BILLING CODE 6015-01-P